DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held September 19, 2006 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The revised agenda will include:

• September 19:

• Opening Session (Welcome and Introductory Remarks, Review/Approve Summary of Previous Meeting).

• Publication Consideration/Approval:

• Final Draft, Change 3 to DO-210, Minimum Operational Performance Standards (MOPS) for Geosynchronous Orbit Aeronautical Mobile Satellite Services (AMSS) Avionics, RTCA Paper No. 182-06/PMC-465, prepared by SC-208.

• Discussion:

• Special Committee Chairman's Reports.

• Request to Revise DO-239-MOPS for Traffic Information Service Data Link Communications—Discussion.

• Action Item Review:

• Synthetic Vision Systems (SVS)—Discussion—Possible New Committee Request.

• SC-147—Traffic Alert & Collision Avoidance System—Discussion—Updates.

• SC-203—Unmanned Aircraft Systems (UAS)—Discussion—Schedule—Status Review.

• SC-205-Software Considerations—Discussion—Status.

• Cabin Management Systems—Discussion—Status.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on August 29, 2006.
Francisco Estrada C.,
RTCA Advisory Committee.

[FR Doc. 06-7488 Filed 9-6-06; 8:45 am]

BILLING CODE 4910-13-M